DEPARTMENT OF THE INTERIOR

Office of the Secretary

DEPARTMENT OF COMMERCE

National Oceanic and Atmospheric Administration

Notice of Public Meeting

AGENCY: Office of the Secretary, Interior; National Ocean and Atmospheric Administration, Commerce.

SUBJECT: Fifth meeting of the U.S. Coral Reef Task Force.

ACTION: Notice of public meeting.

SUMMARY: On behalf of the U.S. Coral Reef Task Force, the Department of the Interior and the Department of Commerce announce the upcoming U.S. Coral Reef Task Force meeting, to be held in American Samoa. This will be the Task Force's fifth meeting, and it will be open to the public.

DATES: The public meeting will be held Saturday August 5, and Monday, August 7, 2000, at times to be determined.

ADDRESSES: The meeting will be held in Pago Pago, American Samoa.

FOR FURTHER INFORMATION CONTACT: Matt Stout, National Oceanic and Atmospheric Administration, telephone (301) 713-3145, 0173, Fax (301) 713-0404, E-mail matthew.stout@noaa.gov

SUPPLEMENTARY INFORMATION: If you plan to attend the meeting in American Samoa, please contact Matthew Stout at the information provided above. We understand that it may be difficult for some individuals to provide comments on issues that will be on the August agenda. Members of the Task Force or their representatives will lead the meeting and background materials will be provided.

Participants are encouraged to submit their views on issues included in the August agenda, a draft of which can be found at http://coralreef.gov. Please provide the Task Force with your written comments either at the July 27 meeting or via mail to: Jessica Jenkins, Department of the Interior, 1849 C Street NW, Mail Stop 6635, Washington, DC 20240 or Jessica_Jenkins@doi.gov. You may also hand-deliver written comments to the address above, Room 3058. We will consider comments and information received by close of business Monday, August 7.

If you plan to attend the Washington, DC meeting, please RSVP to Jessica_Jenkins@doi.gov or (202) 219-0719 by July 25.

Dated: July 13, 2000.
Stephen C. Saunders,
Deputy Assistant Secretary, Fish and Wildlife and Parks, Department of the Interior.
Rolland Schmitten,
Deputy Assistant Secretary for International Affairs, Department of Commerce.

[FR Doc. 00-18185 Filed 7-18-00; 8:45 am]

BILLING CODE 3510-22-M